DEPARTMENT OF COMMERCE

Patent and Trademark Office

[Docket No. PTO-T-2012-0028]

Trademark Board Manual of Procedure, Third Edition, Revision 1

AGENCY: United States Patent and Trademark Office, Commerce.

ACTION: Notice.

SUMMARY: The United States Patent and Trademark Office (“USPTO”) issued the third edition, revision 1, of the Trademark Board Manual of Procedure (“TBMP”), and made available an archived copy of the May 6, 2011 third edition, on June 19, 2012.

ADDRESSES: The USPTO prefers that any suggestions for improving the form and content of the TBMP be submitted via electronic mail message to TBMPFederalRegisterComments@uspto.gov. Written comments may also be submitted by mail addressed to: Trademark Trial and Appeal Board, P.O. Box 1451, Alexandria, VA 22313-1451, marked to the attention of Cheryl Butler, Senior Attorney and Editor, Trademark Board Manual of Procedure, or by hand delivery to the Trademark Assistance Center, Concourse Level, James Madison Building-East Wing, 600 Dulany Street, Alexandria, Virginia, marked to the attention of Cheryl Butler, Senior Attorney and Editor, Trademark Board Manual of Procedure.

FOR FURTHER INFORMATION CONTACT: Cheryl Butler, Senior Attorney, Trademark Trial and Appeal Board, by telephone at (571) 272-4259.

SUPPLEMENTARY INFORMATION: On June 19, 2012, the USPTO issued the first revision of the third edition of the TBMP. The TBMP provides Trademark Trial and Appeal Board (“TTAB”) judges and attorneys, trademark applicants and registrants, and attorneys and representatives for trademark applicants and registrants a comprehensive reference on the practices and procedures for inter partes and ex parte proceedings before the TTAB. The guidance provided by the manual does not have the force and effect of law. Its guidelines have been developed as a matter of internal Office management and are not intended to create any right or benefit, substantive or procedural, enforceable by any party against the Office. While following the guidelines in the manual will aid parties and their attorneys in navigating the procedures applicable to inter partes cases, parties and their attorneys are also free to discuss and agree to various alternative processes that may prove more efficient and economical.

The third edition, revision 1, incorporates TTAB practice, a minor change to the Trademark Act, changes to the Federal Rules of Civil Procedure and Federal Rules of Evidence where relevant, and case law reported between November 15, 2010, and March 2, 2012. The policies stated in this revision supersede any previous policies stated in prior editions or any other statement of USPTO policy, to the extent that there is any conflict. The TBMP may be viewed or downloaded free of charge from the TTAB home page of the USPTO Web site at the address: http://www.uspto.gov/trademarks/process/appeal/index.jsp.

Dated: July 3, 2012.
Teresa Stanek Rea,
Deputy Under Secretary of Commerce for Intellectual Property and Deputy Director of the United States Patent and Trademark Office.

[FR Doc. 2012-17019 Filed 7-11-12; 8:45 am]

BILLING CODE 3510-16-P